DEPARTMENT OF HOMELAND SECURITY

Federal Emergency Management Agency

[Docket ID: FEMA-2020-0025; OMB No. 1660-0147]

Agency Information Collection Activities: Proposed Collection; Comment Request; Coronavirus (COVID-19) Donations Web Portal

AGENCY: Federal Emergency Management Agency, DHS.

ACTION: 60-Day Notice and request for comments.

SUMMARY: The Federal Emergency Management Agency, as part of its continuing effort to reduce paperwork and respondent burden, invites the general public to take this opportunity to comment on new information collection. In accordance with the Paperwork Reduction Act of 1995, this notice seeks comments concerning a voluntary donations web portal located on the FEMA.gov internet site. This information will allow FEMA to collect voluntary information on possible donations of key equipment and resources that can be distributed to key organizational recipients directly responding to the COVID-19 pandemic.

DATES: Comments must be submitted on or before August 17, 2020.

ADDRESSES: To avoid duplicate submissions to the docket, please use only one of the following means to submit comments:

(1) Online. Submit comments at www.regulations.gov under Docket ID FEMA-2020-0025. Follow the instructions for submitting comments.

(2) Mail. Submit written comments to Docket Manager, Office of Chief Counsel, DHS/FEMA, 500 C Street SW, 8NE, Washington, DC 20472-3100.

All submissions received must include the agency name and Docket ID. Regardless of the method used for submitting comments or material, all submissions will be posted, without change, to the Federal eRulemaking Portal at http://www.regulations.gov, and will include any personal information you provide. Therefore, submitting this information makes it public. You may wish to read the Privacy and Security Notice that is available via a link on the homepage of www.regulations.gov.

FOR FURTHER INFORMATION CONTACT: Cindy Ramsay, Supervisory External Affairs Specialist, Public Affairs Division, cindy.ramsay@fema.dhs.gov. You may contact the Information Management Division for copies of the proposed collection of information at email address: FEMA-Information-Collections-Management@fema.dhs.gov.

SUPPLEMENTARY INFORMATION: FEMA implemented a web form into the FEMA.gov internet site to collect voluntary donations of medical equipment. This information will allow FEMA to collect voluntary information on possible donations of key equipment and resources that can be distributed to key organizational recipients directly responding to the COVID-19 pandemic.

The web form collects:

• Collection of Company Information;

• Collection of Company Point of Contact Information; and

• Logistical details of goods for potential donations in direct support of COVID-19 response.

FEMA has authorization to perform this function as described in the National Response Framework, Fourth Edition, October 28, 2019. The National Response Framework Volunteer and Donations Management Support Annex states in its Purpose, “The Volunteer and Donations Management Support Annex describes the coordination processes used to support the state in ensuring the most efficient and effective use of unaffiliated volunteers, unaffiliated organizations, and unsolicited donated goods to support all Emergency Support Functions (ESFs) for incidents requiring a Federal response, including offers of unaffiliated volunteer services and unsolicited donations to the Federal Government.”

Collection of Information

Title: Coronavirus (COVID-19) Donations Web Portal.

Type of Information Collection: New Collection.

OMB Number: OMB Collection 1660-0147.

FEMA Forms: FEMA Form 248-0-0-1; Donations Web Portal.

Abstract: Because of the substantial risk to life, safety, or health of individuals due to the probable shortage in emergency medical equipment, supporting distribution infrastructure and other life-sustaining equipment related to Coronavirus (COVID-19) treatment, FEMA implemented a web form into the FEMA.gov internet site to collect voluntary donations of medical equipment.

This information will allow FEMA to collect voluntary information on possible donations of key equipment and resources that can be distributed to key organizational recipients directly responding to the COVID-19 pandemic.

FEMA will determine if the goods being donated are needed by any organization responding to the COVID-19 situation and uses the information to connect donors making donations with organizations in need by helping to coordinate the movement of those goods either on their own or through contracts. The type of coordination and assistance will vary depending on the type and number of items being donated and the need for the donation.

Affected Public: All individuals in any way involved with the COVID-19 pandemic as it pertains to medical services, medical equipment or exposure to the COVID-19 virus.

Estimated Number of Respondents: 340.

Estimated Number of Responses: 3,400.

Estimated Total Annual Burden Hours: 567.

Estimated Total Annual Respondent Cost: $14,697.

Estimated Respondents' Operation and Maintenance Costs: None.

Estimated Respondents' Capital and Start-Up Costs: None.

Estimated Total Annual Cost to the Federal Government: $34,153.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Maile Arthur,
Deputy Director, Information Management Division, Office of the Chief Administrative Officer, Mission Support, Federal Emergency Management Agency, Department of Homeland Security.

[FR Doc. 2020-12941 Filed 6-15-20; 8:45 am]

BILLING CODE 9111-19-P